DEPARTMENT OF AGRICULTURE

Office of the Secretary

Privacy Act of 1974; New System of Records

AGENCY: Office of the Secretary, USDA.

ACTION: Notice of a new system of records.

SUMMARY: In accordance with the Privacy Act of 1974, as amended, the Department of Agriculture (USDA) is proposing to add a new Forest Service system to its inventory of records systems. USDA invites public comment on this new records system.

DATES: Comments must be received in writing, on or before May 29, 2012. This system will be adopted without further notice, on June 25, 2012, unless modified to respond to comments received from the public and published in a subsequent notice.

ADDRESSES: Send written comments to the Forest Service Freedom of Information Act and Privacy Act Officer, USDA Forest Service, 1400 Independence Avenue SW., Mail Stop 1143, Washington, DC 20250-1143. Comments may also be sent via email to wo_foia@fs.fed.us, or via facsimile to (202) 260-3245.

FOR FURTHER INFORMATION CONTACT: Brett Butler, USDA Forest Service, 160 Holdsworth Way, Amherst, Massachusetts 01003-4230, bbutler01@fs.fed.us, (413) 545-1387. Individuals who use telecommunication devices for the deaf (TDD) may call the Federal Relay Service (FRS) at 1 (800) 877-8339 between 8 a.m. and 8 p.m., Eastern Standard time, Monday through Friday.

SUPPLEMENTARY INFORMATION:

I. Background

Established in 1905, the Forest Service is an agency of the U.S. Department of Agriculture. The mission of the USDA's Forest Service is to sustain the health, diversity, and productivity of the Nation's forests and grasslands, which encompass 193 million acres of land, to meet the needs of present and future generations.

The purpose of this system is to allow the Forest Service to maintain records regarding contact information of private landowners in the United States who are solicited to participate in the National Woodland Owner Survey (NWOS). The contact information collected is the name, mailing address, phone number, and email address; and it is used to solicit participation in the NWOS. The information collected through the survey is used only to produce statistical reports of general trends in landowner attributes. The results from the survey are stored in a separate database and are not a part of this system of records.

Pursuant to the Privacy Act, and as part of the Forest Service's ongoing effort to review and update system of records notices, the agency proposes a new records system: National Woodland Owner Survey Database.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each system of records that the agency maintains, and the routine uses that are contained in each system in order to make agency recordkeeping practices transparent, to notify individuals regarding the uses to which their records are put, and to assist individuals to more easily find such files within the agency. Below is the description of the USDA/FS-58 National Woodland Owner Survey Database.

A report of the proposed system of records, required by 5 U.S.C. 552a(r) as implemented by Office of Management and Budget (OMB) Circular A-130, was sent to the Chairman, Committee on Homeland Security and Governmental Affairs, United States Senate; the Chairman, Committee on Oversight and Government Reform, U.S. House of Representatives; and the Administrator, Office of Information and Regulatory Affairs, OMB.

Dated: March 30, 2012.
Thomas J. Vilsack,
Secretary.

System name:

National Woodland Owners Database, USDA/FS-58.

Security classification:

None.

System location:

The records in this system are collected in a database located on secure servers in Kansas City, Missouri.

Categories of individuals covered by the system:

Private woodland owners, including individuals, families, businesses, and other private groups, in the United States that are solicited to participate in the National Woodland Owner Survey.

Categories of records in the system:

Name, mailing address, phone number, email address, and a unique identification number that is internally generated.

Authority for maintenance of the system:

16 U.S.C. 1600-1614; 16 U.S.C. 1641-1647

Purpose(s):

The purpose of this system is to allow the USDA Forest Service to maintain records regarding private woodland owners in the United States who are solicited to participate in the National Woodland Owner Survey.

Routine uses of records maintained in the system, including categories of users and the purposes of such uses:

1. Disclose to the Department of Justice when (a) the agency or any component thereof; or (b) any employee of the agency in his or her official capacity where the Department of Justice has agreed to represent the employee; or (c) the United States Government, is a party to litigation or has an interest in such litigation, and by careful review, the agency determines that the records are both relevant and necessary to the litigation, and the use of such records by the Department of Justice is therefore deemed by the agency to be for a purpose that is compatible with the purpose for which the agency collected the records.

2. Disclose to a court or adjudicative body in a proceeding when (a) the agency or any component thereof; or (b) any employee of the agency in his or her official capacity; or (c) any employee of the agency in his or her individual capacity where the agency has agreed to represent the employee; or (d) the United States Government, is a party to the litigation or has an interest in such litigation, and by careful review, the agency determines that the records are both relevant and necessary to the litigation, and the use of such records is therefore deemed by the agency to be for a purpose that is compatible with the purpose for which the agency collected the records.

3. Disclose when a record on its face, or in conjunction with other records, indicates a violation or potential violation of law, whether civil, criminal, or regulatory in nature, and whether arising by general statute or particular program statute, or by regulation, rule, or order issued pursuant thereto, disclosure may be made to the appropriate agency, whether Federal, foreign, State, local, or Tribal, or other public authority responsible for enforcing or implementing the statute, or rule, regulation, or order issued pursuant thereto, if the information disclosed is relevant to any enforcement, regulatory, investigative, or prosecutive responsibility of the receiving entity.

4. Disclose to a Member of Congress or a Congressional staff member in response to an inquiry of the Congressional office made at the written request of the constituent about whom the record is maintained.

5. Disclose to the National Archives and Records Administration or to the General Services Administration for records management inspections conducted under 44 U.S.C. 2904 and 2906.

6. Disclose to employees of USDA's National Agricultural Statistics Service, agency contractors, grantees, experts, consultants, or volunteers who have been engaged by the agency to assist in the performance of a service related to this system of records and who need to have access to the records in order to perform the activity. Recipients shall be required to comply with the requirements of the Privacy Act of 1974, as amended, pursuant to 5 U.S.C. 552a(m).

7. Disclose to appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Policies and practices for storing, retrieving, accessing, retaining, and disposing of records in the system:

Storage:

Information is maintained in an electronic database and stored on secured servers in Kansas City, Missouri.

Retrievability:

Electronic records are indexed and retrieved electronically using multiple queries including name, unique identification number, or other criteria.

Safeguards:

All electronic records are maintained in a secure, password-protected, database and stored on secured servers in Kansas City, Missouri. The server is protected by a firewall, and a password is required for access. Access is limited to the database manager and to personnel authorized by the database manager.

Retention and disposal:

Records are maintained under file code 4810 and retained and disposed of in accordance with the appropriate General Records Schedules of the National Archives and Records Administration.

System manager(s) and Address:

National Woodland Owner Survey Coordinator, USDA Forest Service, 160 Holdsworth Way, Amherst, Massachusetts 01003.

Notification procedure:

Individuals may request information regarding this system of records, or information as to whether the system contains records pertaining to them from the System Manager (address above). When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Freedom of Information Act and Privacy Act Officer, USDA Forest Service, 1400 Independence Avenue SW., Mailstop 1143, Washington, DC 20250-1143, wo_foia@fs.fed.us, (202) 205-1542.

Record access procedures:

Individuals who wish to gain access to or amend records pertaining to them should submit a written request to the System Manager (address above). The envelope should be marked “Privacy Act Request.”

Contesting record procedures:

Use the same procedures as those described in Notification procedures.

Record source categories:

Information on private woodland owners is initially collected from public records, such as property tax rolls. The information is then maintained and updated with information received from owners who voluntarily participate in the National Woodland Owner Survey.

Exemptions claimed for the system:

None.

[FR Doc. 2012-10017 Filed 4-25-12; 8:45 am]

BILLING CODE 3410-11-P